DEPARTMENT OF HOMELAND SECURITY

[Docket No. DHS-2008-0055]

Homeland Security Advisory Council

AGENCY: Policy Directorate, DHS.

ACTION: Committee Management; Notice of Partially Closed Federal Advisory Committee Meeting.

SUMMARY: The Homeland Security Advisory Council (HSAC) will meet for purposes of reviewing recommendations from the Essential Technology Task Force (ETTF) on June 25, 2008, in Washington, DC. In addition, the HSAC will receive briefings from Secretary Michael Chertoff and other DHS officials. The meeting will be partially closed to the public.

DATES: The HSAC will meet June 25, 2008, from 10 a.m. to 3:30 p.m. The meeting will be closed from 10 a.m. to 11 a.m. and from 12 p.m. to 3:30 p.m.

ADDRESSES: The open portion of the meeting will be held in Salon II at the Ritz-Carlton Hotel located at 1150 22nd Street, NW. in Washington, DC. Requests to have written material distributed to each member of the committee prior to the meeting should reach the contact person at the address below by June 18, 2008. Comments must be identified by DHS-2008-0055 and may be submitted by one of the following methods:

• Federal eRulemaking Portal: http://www.regulations.gov. Follow the instructions for submitting comments.

• E-mail: HSAC@dhs.gov. Include the docket number in the subject line of the message.

• Fax: 202-282-9207.

• Mail: Homeland Security Advisory Council, c/o Jennifer Myers, 245 Murray Drive, SW., Building 410, Mailstop 0850, Washington, DC 20528.

Instructions: All submissions received must include the words “Department of Homeland Security” and the docket number for this action. Comments received will be posted without alteration at http://www.regulations.gov, including any personal information provided.

Docket: For access to the docket to read background documents or comments received by the HSAC, go to http://www.regulations.gov.

FOR FURTHER INFORMATION CONTACT: Jennifer Myers, Homeland Security Advisory Council, (202) 447-3135, HSAC@dhs.gov.

SUPPLEMENTARY INFORMATION: Notice of this meeting is given under the Federal Advisory Committee Act, 5 U.S.C. App. (Pub. L. 92-463). The HSAC provides independent advice to the Secretary of the Department of Homeland Security to aid in the creation and expeditious implementation of critical and actionable policy and operational capacities across the spectrum of homeland security operations. The HSAC shall periodically report, as appropriate, to the Secretary on matters within the scope of that function. The HSAC serves as an advisory body with the goal of providing advice upon the request of the Secretary.

Public Attendance: Members of the public may register to attend the public session on a first-come, first-served basis per the procedures that follow. For security reasons, we request that any member of the public wishing to attend the public session provide his or her full legal name, date of birth and contact information no later than 5 p.m. EST on June 18, 2008, to Jennifer Myers or a staff member of the HSAC via e-mail at HSAC@dhs.gov or via phone at (202) 447-3135. Photo identification may be required for entry into the public session. Registration begins at 10 a.m. Those attending the public session of the meeting must be present and seated by 10:45 a.m. From 11 a.m. to 12 p.m., the HSAC will meet to review and deliberate recommendations from the Essential Technology Task Force (ETTF). The ETTF has focused on identifying priorities for DHS and relevant partners to improve acquisition of large scale technologies.

Closed portions of the meeting will include updates on operational challenges, intelligence briefings, and pre-decisional policies. During the closed portions of the meeting, speakers from various DHS components, including: Customs and Border Protection, U.S. Secret Service, Office of Intelligence and Analysis, Policy Directorate, Management Directorate, the Transportation Security Administration, U.S. Coast Guard, Federal Emergency Management Agency, Immigration and Customs Enforcement and U.S. Citizenship and Immigration Services, will brief the members on successes, challenges and vulnerabilities affecting the component's mission. The briefings will include information on sensitive homeland procedures and the capabilities of the Department of Homeland Security components.

Identification for Services for Individuals with Disabilities: For information on facilities or services for individuals with disabilities, or to request special assistance at the meeting, contact Jennifer Myers as soon as possible.

Basis for Closure: In accordance with Section 10(d) of the Federal Advisory Committee Act, it has been determined that this HSAC meeting concerns matters that “disclose investigative techniques and procedures” under 25 U.S.C. 552b(c)(9)(b) and are “likely to significantly frustrate implementation of a proposed agency action” within the meaning of 5 U.S.C. 552b(c)(7)(e) and that, accordingly, the meeting will be partially closed to the public.

Release of information presented during the briefings and the nature of the discussion could lead to premature disclosure of information on Department of Homeland Security actions that would be “likely to significantly frustrate implementation of a proposed agency action.” Additionally, discussion of ongoing investigations with Department of Homeland Security enforcement components and outside law enforcement partners falls within the meaning of 5 U.S.C. 552b(7)(e) insofar as they will “disclose investigative techniques and procedures.”

Exhibit Open to Public: DHS' Office of Public Affairs is hosting an exhibit open to the public to include component display and information stations. Public viewing begins at 10 a.m. and concludes at 1 p.m.

Dated: June 5, 2008.
Stewart A. Baker,
Assistant Secretary, Office of Policy, Department of Homeland Security.

[FR Doc. E8-13083 Filed 6-10-08; 8:45 am]

BILLING CODE 4410-10-P